DEPARTMENT OF THE INTERIOR

Meeting of the California Desert District Advisory Council

AGENCY: Bureau of Land Management, Interior.

ACTION: Notice of public meeting.

SUMMARY: Notice is hereby given, in accordance with Public Laws 92-463 and 94-579, that the California Desert District Advisory Council to the Bureau of Land Management, U.S. Department of the Interior, will participate in a field tour of BLM-administered public lands on Friday, March 31, 2006, from 8 a.m. to 5 p.m., and meet in formal session on Saturday, April 1 from 8 a.m. to 1 p.m. in Conference Rooms A, B and C in the CalWorks Building within the Imperial County Center II Complex, located at 2895 South 4th Street, in El Centro, California.

The Council and interested members of the public will depart for a field tour of the Imperial Sand Dunes Recreation Area (ISDRA) at 8 a.m. from the parking lot of the Best Western John Jay Inn, located at 2352 South 4th Street in El Centro. The public is welcome to participate in the tour, but should plan on providing their own transportation, drinks, and lunch. Tour stops and presentations/updates will focus on BLM management of the ISDRA, including monitoring and fee collection.

SUPPLEMENTARY INFORMATION: All Desert District Advisory Council meetings are open to the public. Public comment for items not on the agenda is scheduled at the beginning of the meeting Saturday morning. Time for public comment may be made available by the Council Chairman during the presentation of various agenda items, and is scheduled at the end of the meeting.

Although the Saturday meeting is tentatively scheduled from 8 a.m. to 1 p.m., the meeting could conclude prior to 1 p.m. should the Council conclude its discussions. Therefore, members of the public interested in a particular agenda item or discussion should schedule their arrival accordingly.

Written comments may be filed in advance of the meeting for the California Desert District Advisory Council, c/o Bureau of Land Management, Public Affairs Office, 22835 Calle San Juan De Los Lagos, Moreno Valley, California 92553. Written comments also are accepted at the time of the meeting and, if copies are provided to the recorder, will be incorporated into the minutes.

FOR FURTHER INFORMATION CONTACT: Doran Sanchez, BLM California Desert District Public Affairs Specialist, (951) 697-5220.

Dated: January 30, 2006.
Steven J. Borchard,
District Manager.

[FR Doc. E6-1640 Filed 2-6-06; 8:45 am]

BILLING CODE 4310-40-P